DEPARTMENT OF TRANSPORTATION

Federal Railroad Administration

[Docket No. FRA-2000-7257, Notice No. 94]

Railroad Safety Advisory Committee; Notice of Meeting

AGENCY: Federal Railroad Administration (FRA), Department of Transportation (DOT).

ACTION: Notice of public meeting.

SUMMARY: FRA announces the sixty-fifth meeting of the Railroad Safety Advisory Committee (RSAC), a Federal advisory committee that provides advice and recommendations to FRA on railroad safety matters through a consensus process. This meeting of the RSAC will focus on efforts made regarding potential safety improvements related to the February 3, 2023, Norfolk Southern freight train derailment in East Palestine, Ohio.

DATES: The RSAC meeting is scheduled for Thursday, October 26, 2023. The meeting will commence at 9:30 a.m. and will adjourn by 4:30 p.m. (all times Eastern Daylight Time). Requests to submit written materials to be reviewed during the meeting must be received by October 16, 2023. Requests for accommodations because of a disability must be received by October 16, 2023.

ADDRESSES: The RSAC meeting will be held at the National Association of Home Builders, located at 1201 15th Street NW, Washington, DC 20005. A final agenda will be posted on the RSAC internet website at https://rsac.fra.dot.gov/ at least one week in advance of the meeting. Please see the RSAC website for additional information on the committee at https://rsac.fra.dot.gov/.

FOR FURTHER INFORMATION CONTACT: Kenton Kilgore, RSAC Designated Federal Officer/RSAC Coordinator, FRA Office of Railroad Safety, (202) 365-3724 or kenton.kilgore@dot.gov. Any committee-related request should be sent to Mr. Kilgore.

SUPPLEMENTARY INFORMATION: Pursuant to section 10(a)(2) of the Federal Advisory Committee Act (Pub. L. 92-463), FRA is giving notice of a meeting of the RSAC.

The RSAC is composed of 56 voting representatives from 30 member organizations, representing various rail industry perspectives. The diversity of the Committee ensures the requisite range of views and expertise necessary to discharge its responsibilities.

Public Participation: The meeting is open to the public. Attendance is on a first-come, first served, basis, and is accessible to individuals with disabilities. DOT and FRA are committed to providing equal access to this meeting for all participants. If you need alternative formats or services because of a disability, please contact Mr. Kenton Kilgore as listed in the FOR FURTHER INFORMATION CONTACT section, and submit your request by October 16, 2023.

Any member of the public may submit a written statement to the committee at any time; however, submissions for committee review during the meeting must be received by October 16, 2023.

Agenda Summary: This meeting of the RSAC will include updates from the working groups for: train braking modernization; wayside detectors; and enhancement of hazardous trains designations. These working groups were formed in response to the February 3, 2023, Norfolk Southern Railway Co. freight train derailment in East Palestine, Ohio. Working groups for Confidential Close Call Reporting (C3RS) and roadway worker protection will also report to the committee on their activity. FRA will also announce the renewal of the RSAC charter for the period of October 2023-October 2025, and discuss changes made to the charter. A detailed agenda for the meeting will be posted on the RSAC internet website at least one week in advance of the meeting. Copies of the minutes of past meetings, along with general information about the committee, are also available on the RSAC internet website at https://rsac.fra.dot.gov/.

Issued in Washington, DC.
Amitabha Bose,
Administrator.

[FR Doc. 2023-20234 Filed 9-18-23; 8:45 am]

BILLING CODE 4910-06-P